DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary, Office of Acquisition Management.

Title: Applicant for Funding Assistance.

OMB Control Number: 0605-0001.

Form Number(s): CD-346.

Type of Request: Regular submission.

Number of Respondents: 1,500.

Average Hours Per Response: 15 minutes.

Burden Hours: 375.

Needs and Uses: The Department of Commerce, thru its bureaus, assists reliable, capable individuals and firms in pursuit of various business development projects, business enterprise development and other forms of economic development. The CD-346 is used to assist programs and grants administration officials in determining the fiscal responsibility and financial integrity of principal officers and employees of organizations, firms, and other entities which are recipients or beneficiaries of grants, cooperative agreements, loans, loan guarantees or other forms of federal financial assistance.

Through the name check process, background information is collected on key individuals associated with proposed financial assistance recipient organizations. It also identifies those principals who have been convicted of, or are presently facing, criminal charges or are under investigation for fraud, theft, perjury or other matters which have significant impact on questions of management honesty or financial integrity.

The Office of Inspector General has passed the responsibility for administration of the name check process and stewardship of the Form CD-346 to the Office of Acquisition Management (OAM), Grants Management Division (GMD).

Affected Public: Business or other for-profit organizations; not-for-profit institutions; individuals and households.

Frequency: On occasion.

Respondent's Obligation: Obtain or retain benefits.

OMB Desk Officer: Nicholas Fraser, (202) 395-5887.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Nicholas Fraser, OMB Desk Officer, FAX number (202) 395-7285, or via the Internet at Nicholas_A._Fraser@omb.eop.gov.

Dated: March 18, 2010.
Gwellnar Banks,
Management Analyst, Office of the Chief Information Officer.

[FR Doc. 2010-6388 Filed 3-23-10; 8:45 am]

BILLING CODE 3510-03-P